DEPARTMENT OF DEFENSE

GENERAL SERVICES ADMINISTRATION

NATIONAL AERONAUTICS AND SPACE ADMINISTRATION

48 CFR Parts 1, 12, 22, 47, and 52

[FAC 2025-02; FAR Case 2019-017, Item I; Docket No. FAR-2019-0017; Sequence No. 1]

RIN 9000-AO00

Federal Acquisition Regulation: Training To Prevent Human Trafficking for Certain Air Carriers; Correction

AGENCY: Department of Defense (DoD), General Services Administration (GSA), and National Aeronautics and Space Administration (NASA).

ACTION: Final rule.

SUMMARY: DoD, GSA, and NASA are issuing a final rule amending the Federal Acquisition Regulation (FAR) to implement a section of the Frederick Douglass Trafficking Victims Prevention and Protection Reauthorization Act of 2018, which requires that domestic carriers who contract with the Federal Government to provide air transportation must submit an annual report with certain information related to prevention of human trafficking.

DATES: Effective January 3, 2025.

FOR FURTHER INFORMATION CONTACT: For clarification of content, contact Ms. Malissa Jones, Procurement Analyst, at 571-882-4687 or by email at malissa.jones@gsa.gov. For information pertaining to status or publication schedules contact the Regulatory Secretariat Division at 202-501-4755 or GSARegSec@gsa.gov. Please cite FAC 2025-02, FAR Case 2019-017.

SUPPLEMENTARY INFORMATION: DoD, GSA, and NASA are correcting an effective date in the preamble under the Discussion and Analysis section of the rule.

In the FR Doc. 2024-29373, published in the Federal Register at 89 FR 101821 in the issue of December 16, 2024, make the following correction:

4. Retroactive Applicability [Corrected]

On page 101822, in the second column, in paragraph 4., Response, correct the date “November 1, 2024”, to read “January 3, 2025”.

William F. Clark,
Director, Office of Government-wide Acquisition Policy, Office of Acquisition Policy, Office of Government-wide Policy.

[FR Doc. 2024-30935 Filed 12-27-24; 8:45 am]

BILLING CODE 6820-EP-P